DEPARTMENT OF THE INTERIOR

National Park Service

[NPS-WASO-NAGPRA-13861; PPWOCRADN0-PCU00RP14.R50000]

Notice of Inventory Completion: Michigan State Police, Jackson Post, Jackson, MI

AGENCY: National Park Service, Interior.

ACTION: Notice.

SUMMARY: The Michigan State Police, Jackson Post (MSP 13) has completed an inventory of human remains, following the initiation of consultation with the appropriate Indian tribes or Native Hawaiian organizations, and has determined that there is no cultural affiliation between the human remains and any present-day Indian tribes or Native Hawaiian organizations. Representatives of any Indian tribe or Native Hawaiian organization not identified in this notice that wish to request transfer of control of the human remains should submit a written request to the MSP 13. If no additional requestors come forward, transfer of control of the human remains to the Indian tribes or Native Hawaiian organizations stated in this notice may proceed.

DATES: Representatives of any Indian tribe or Native Hawaiian organization not identified in this notice that wish to request transfer of control of these human remains should submit a written request with information in support of the request to the MSP 13 at the address in this notice by October 30, 2013.

ADDRESSES: Sergeant Greg Jones, Michigan State Police, 3401 Cooper St., Jackson, MI 49201, telephone (517) 780-4580, email jonesg6@michigan.gov.

SUPPLEMENTARY INFORMATION: Notice is here given in accordance with the Native American Graves Protection and Repatriation Act (NAGPRA), 25 U.S.C. 3003, of the completion of an inventory of human remains under the control of MSP 13. The human remains were removed from Waterloo Township, Jackson County, MI.

This notice is published as part of the National Park Service's administrative responsibilities under NAGPRA, 25 U.S.C. 3003(d)(3) and 43 CFR 10.11(d). The determinations in this notice are the sole responsibility of the museum, institution, or Federal agency that has control of the human remains. The National Park Service is not responsible for the determinations in this notice.

Consultation

A detailed assessment of the human remains was made by the Michigan State University Anthropology Department on behalf of the Michigan State Police. The following tribes were notified, but did not participate in consultation: Bay Mills Indian Community, Michigan; Citizen Potawatomi Nation, Oklahoma; Forest County Potawatomi Community, Wisconsin; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Band of Odawa Indians, Michigan; Match-e-be-nash-she-wish Band of Pottawatomi Indians of Michigan; Nottawaseppi Huron Band of Potawatomi, Michigan (previously listed as the Huron Potawatomi, Inc.); Ottawa Tribe of Oklahoma; Prairie Band Potawatomi Nation (previously listed as the Prairie Band of Potawatomi Nation, Kansas); Pokagon Band of Potawatomi Indians, Michigan and Indiana; Saginaw Chippewa Indian Tribe of Michigan; and the Sault Ste. Marie Tribe of Chippewa Indians, Michigan (hereafter referred to as “The Notified Tribes”).

History and Description of the Remains

On November 19, 1972, human remains representing, at minimum, one individual were removed from a private residence in Waterloo Township, Jackson County, MI, following their discovery by the homeowner while digging a septic hole. The homeowner contacted the Michigan State Police Jackson Post (complaint 41-5894-72) who took possession of the human remains and transferred them to the Michigan State University, Anthropology Department, for analysis. The Michigan State University determined that the human remains belonged to one adult Native American. The human remains were returned to the Michigan State Police Jackson Post in July 2013. No known individuals were identified. No associated funerary objects are present.

Determinations Made by the Michigan State Police

Officials of Michigan State Police have determined that:

• Pursuant to 25 U.S.C. 3001(9), the human remains described in this notice are Native American based on forensic inspection of the remains by the Michigan State University Anthropology Department.

• Pursuant to 25 U.S.C. 3001(9), the human remains described in this notice represent the physical remains of one individual of Native American ancestry.

• Pursuant to 25 U.S.C. 3001(2), a relationship of shared group identity cannot be reasonably traced between the Native American human and any present-day Indian tribe.

• According to final judgments of the Indian Claims Commission or the Court of Federal Claims, the land from which the Native American human remains were removed is the aboriginal land of The Notified Tribes.

• Treaties, Acts of Congress, or Executive Orders, indicate that the land from which the Native American human remains were removed is the aboriginal land of The Notified Tribes.

• Pursuant to 43 CFR 10.11(c)(2)(i), the disposition of the human remains may be to The Notified Tribes.

Additional Requestors and Disposition

Representatives of any Indian tribe or Native Hawaiian organization not identified in this notice that wish to request transfer of control of these human remains should submit a written request with information in support of the request to Sergeant Greg Jones, Michigan State Police, Jackson Post, 3401 Cooper Street, Jackson, MI 49203, telephone (517) 780-4580, email jonesg6@michigan.gov, by October 30, 2013. After that date, if no additional requestors have come forward, transfer of control of the human remains to The Notified Tribes may proceed.

The Michigan State Police is responsible for notifying The Notified Tribes that this notice has been published.

Dated: August 19, 2013.
Sherry Hutt,
Manager, National NAGPRA Program.

[FR Doc. 2013-23812 Filed 9-27-13; 8:45 am]

BILLING CODE 4312-50-P